DEPARTMENT OF AGRICULTURE

Forest Service

Northern Research Station, Timber & Watershed Laboratory, RWU NRS-01, West Virginia, Fernow Experimental Forest 2016 to 2020

AGENCY: Forest Service, USDA.

ACTION: Notice of intent to prepare an environmental impact statement.

SUMMARY: The USDA Forest Service will prepare an Environmental Impact Statement (EIS9) to document the analysis and disclose environmental impacts of proposed actions needed to continue long-term research on the Fernow Experimental Forest. To continue long-term research on the Fernow Experimental Forest, the USDA Forest Service proposes to harvest timber, use prescribed fire, and apply fertilizer to specific areas of the experimental forest. Also, to maintain the integrity of the experimental forest for long-term research we will continue the following management activities: Applying gravel to road surfaces as needed; replacing culverts on skid roads and haul roads as needed; maintaining water bars on skid roads; maintaining ditches and culverts; seeding decks and landings; using herbicides to control the spread of Japanese stiltgrass and other invasive species such as tree-of-heaven as needed; removing hazard trees from along the roads; and maintaining openings used for weather stations. The purpose of the research is to evaluate the effectiveness of silvicultural tools on central Appalachian forests, to better understand ecological dynamics within these forest ecosystems, and to develop management tools, practices, and guidelines for central Appalachian forests.

The 4,700-acre Fernow Experimental Forest is situated with the boundary of eth Monongahela National Forest in Tucker County, West Virginia and is managed by the Northern Research Station of eth USDA Forest Service. These proposed research activities are in compliance with the 2006 revised in 2011 Monongahela National Forest Plan, which provides overall guidance for management of the area, including direction for management of the Fernow Experimental Forest.

DATES: Comments concerning the scope of the analysis must be received by January 26, 2015. The draft environmental impact statement is expected September 2015 and the final environmental impact statement is expected November 2015.

ADDRESSES: Send written comments to USDA Forest Service, Northern Research Station, Timber & Watershed Laboratory, Attn: Fernow EIS, P.O. Box 404, Parsons, WV 26287. Comments may also be sent via email to mailto:fs-fernow@fs.fed.us, or via facsimile to 304-478-8692.

FOR FURTHER INFORMATION CONTACT: Tom Schuler, Northern Research Station, Timber & Watershed Laboratory, P.O. Box 404, Parsons, WV 26287, 304-478-2000, tschuler@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed actions is to continue ongoing research studies on the FEF and to maintain the integrity of the FEF for long-term research. The need for these specific proposed actions is found in the various study plans that set up the harvest methods and timing for harvests. Some studies include experiments that were designed to last 80 years or more. These data represent some of the most complete, continuous long-term records on ecosystem processes in the world. We want to continue these experiments as designed, and continue to gather information about the effects of various silvicultural practices on forest ecosystems in the central Appalachians. We will use these data to provide information on basic ecosystem processes in unmanaged and managed forests, on species diversity of plants and animals, and on other ecological parameters. Research results from the FEF are used to guide management on private and public lands in the central Appalachian region.

The FEF has many partners and collaborators who rely on the existing studies as a framework for basic research, and for innovative studies. Therefore, it is important that we manage the FEF to ensure availability for collaborative research, and to ensure safety for all visitors to the FEF. Management activities include: Applying gravel to road surfaces as needed; replacing culverts on skid roads and haul roads as needed; maintaining water bars on skid roads; maintaining ditches and culverts; seeding decks and landings; using herbicides to control the spread of Japanese stiltgrass and other invasive species such as tree-of-heaven as needed; removing hazard trees from along the roads; and maintaining openings used for weather stations.

Proposed Action

The proposed activities planned for 2015 through 2020 include the following silvicultural treatments in existing research studies: Diameter-limit harvest on 173 acres; single-tree selection on 150 acres; 24 acres of patch clearcuts (each patch is 0.4 acre) within 169 acres; and prescribed fire treatment on 391 acres. Other treatments include annual fertilization of 89 acres with ammonium sulfate fertilizer (and additions of dolomitic lime to 2 of those acres), treatments of invasive non-native plants, and maintenance of roads, decks, and other infrastructure.

Responsible Official

The responsible official for the decision will be the Project Leader or Acting Project Leader for RWU NRS-01, “Ecological and Economic Sustainability of the Appalachian Forest in an Era of Globalization”.

Nature of Decision To Be Made

The responsible official will decide if the proposed action will be implmented as described, as modified by an alternative, or not at all. If the proposed actiion is implemented, what mitigation measures and monitoring requirements will the Forest Service implement.

Preliminary Issues

Preliminary issues to address in the EIS include:

• Adverse effects of logging and prescribed fire to habitat and individuals listed as federally endangered or threatened

• a decrease in soil productivity from erosion following timber harvests and prescribed fires

• increased sediment input to streams from timber harvests and prescribed fires

• increases in stream acidity and adverse effects to trout populations from the addition of ammonium sulfate fertilizer to a watershed

Scoping Process

This notice of intent initiates the scoping process, which guides the development of the environmental impact statement. Letters describing the proposed action were sent to interested people and agencies on December 5, 2014. The project is listed on the Monongahela National Forest Schedule of Proposed Actions at http://www.fs.fed.us/nepa/project_content.php?project=45791.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 8, 2014.
Thomas M. Schuler,
Project Leader, NRS-01.

[FR Doc. 2014-29162 Filed 12-11-14; 8:45 am]

BILLING CODE 3410-11-P